SURFACE TRANSPORTATION BOARD

[Docket No. EP 670 (Sub-No. 2)]

Notice of Rail Energy Transportation Advisory Committee Vacancies

AGENCY: Surface Transportation Board.

ACTION: Notice of vacancies on federal advisory committee and solicitation of nominations.

SUMMARY: The Surface Transportation Board (Board) hereby gives notice of nine vacancies on its Rail Energy Transportation Advisory Committee (RETAC) for one representative from Canadian Pacific Kansas City Limited; one representative from CSX Transportation, Inc.; one representative from Class II and III railroads; two representatives from electric utilities; one representative from biofuel feedstock growers or providers and biofuel refiners, processors, and distributors; two representatives from the petroleum shipping industry; and one at-large representative. The Board is soliciting nominations from the public for candidates to fill these vacancies.

DATES: Nominations for candidates for membership on RETAC are due August 8, 2025.

ADDRESSES: Nominations may be submitted via e-filing on the Board's website under Docket No. EP 670 (Sub-No. 2).

FOR FURTHER INFORMATION CONTACT: Elizabeth McGrath at 202-748-4566. If you require an accommodation under the Americans with Disabilities Act, please call (202) 245-0245.

SUPPLEMENTARY INFORMATION: The Board exercises broad authority over transportation by rail carriers, including regulation of railroad rates, practices, and service issues, (49 U.S.C. 10701-47, 11101-24), the construction, acquisition, operation, and abandonment of rail lines, (49 U.S.C. 10901-07), as well as railroad line sales, consolidations, mergers, and common control arrangements, (49 U.S.C. 10902, 11323-27).

The Board established RETAC in 2007 as a federal advisory committee consisting of a balanced cross-section of energy and rail industry stakeholders to provide independent, candid policy advice to the Board and to foster open, effective communication among the affected interests on issues such as rail performance, capacity constraints, infrastructure planning and development, and effective coordination among suppliers, railroads, and users of energy resources. RETAC operates under the Federal Advisory Committee Act (5 U.S.C. Chapter 10).

RETAC's membership is balanced and representative of interested and affected parties, consisting of not less than: one representative from each of the Class I railroads; three representatives from Class II and III railroads; three representatives from coal producers; five representatives from electric utilities (including at least one rural electric cooperative and one state- or municipally-owned utility); four representatives from biofuel feedstock growers or providers and biofuel refiners, processors, and distributors; two representatives from private car owners, car lessors, or car manufacturers; three representatives from the petroleum shipping industry; two representatives from renewable energy sources; and one representative from a labor organization.¹ The Committee may also include up to two at large members with relevant experience but not necessarily affiliated with one of the aforementioned industries or sectors.

¹ This membership breakdown reflects the addition of two Class I railroad seats (to include all six Class Is) and two additional petroleum shipping industry seats, to improve the representative balance of individuals experienced in issues affecting the transportation of energy resources. An updated RETAC charter is forthcoming.

Members are selected by the Chairman of the Board with the concurrence of a majority of the Board. The Chairman may invite representatives from the U.S. Departments of Agriculture, Energy, and Transportation and the Federal Energy Regulatory Commission to serve on RETAC in advisory capacities as ex officio (non-voting) members. The members of the Board serve as ex officio members of the Committee.

RETAC meets at least twice per year. Meetings are typically held at the Board's headquarters in Washington, DC, but may be held virtually or in other locations. Members of RETAC serve without compensation and without reimbursement of travel expenses. Further information about RETAC is available on the RETAC page of the Board's website at www.stb.gov/resources/stakeholder-committees/retac/.

The Board is soliciting nominations from the public for candidates to fill nine vacancies RETAC, including one representative from Canadian Pacific Kansas City Limited; one representative from CSX Transportation, Inc.; one representative from Class II and III railroads; two representatives from electric utilities; one representative from biofuel feedstock growers or providers and biofuel refiners, processors, and distributors; two representatives from the petroleum shipping industry; and one at-large representative. All the vacancies are for three-year terms ending September 30, 2028. According to revised guidance issued by the Office of Management and Budget, it is permissible for federally registered lobbyists to serve on advisory committees, such as RETAC, as long as they do so in a representative capacity, rather than an individual capacity. See Revised Guidance on Appointment of Lobbyists to Fed. Advisory Comms., Bds., & Comm'ns, 79 FR 47,482 (Aug. 13, 2014). Members of RETAC are appointed to serve in a representative capacity.

Nominations for candidates to fill the vacancies should be filed in letter form and should include: (1) the name, position, and business contact information of the candidate to include email address and phone number; (2) the interest the candidate will represent; (3) a summary of the candidate's experience and qualifications for the position; (4) a representation that the candidate is willing to serve as a member of RETAC; and, (5) a statement that the candidate agrees to serve in a representative capacity. Candidates may nominate themselves. Nominations should be filed with the Board by August 8, 2025. Please note that submissions will be posted publicly on the Board's website under Docket No. EP 670 (Sub-No. 2).

Authority: 49 U.S.C. 1321; 49 U.S.C. 11101; 49 U.S.C. 11121.

Decided: July 3, 2025.
By the Board, Scott M. Zimmerman, Acting Director, Office of Proceedings.
Zantori Dickerson,
Clearance Clerk.

[FR Doc. 2025-12706 Filed 7-8-25; 8:45 am]

BILLING CODE 4915-01-P